DEPARTMENT OF THE INTERIOR

National Park Service

[NPS-WASO-NAGPRA-17403: PPWOCRADN0-PCU00RP14.R50000]

Notice of Intent to Repatriate Cultural Items: California State University, Sacramento, Sacramento, CA

AGENCY: National Park Service, Interior.

ACTION: Notice.

SUMMARY: California State University, Sacramento, in consultation with the appropriate Indian tribes or Native Hawaiian organizations, has determined that the cultural items listed in this notice meet the definition of unassociated funerary objects. Lineal descendants or representatives of any Indian tribe or Native Hawaiian organization not identified in this notice that wish to claim these cultural items should submit a written request to California State University, Sacramento. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to California State University, Sacramento at the address in this notice by March 6, 2015.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3005, of the intent to repatriate cultural items under the control of California State University, Sacramento that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime during the 1920s and 1930s, 20 unassociated funerary objects were removed from CA-SAC-006 (also known as Johnson Mound), located approximately 1.3 miles west of the Cosumnes River and 5.5 miles northeast of the intersection of the Mokelumne and Cosumnes Rivers in southern Sacramento County, CA. The unassociated funerary objects were in the possession of Anthony Zallio, a private collector, who posthumously donated his collection in 1951 to the Department of Anthropology at Sacramento State College, CA (now California State University, Sacramento). The 20 unassociated funerary objects are two lots of charred basketry, one lot of charred seeds, and 17 lots of baked clay.

Archeological data suggests occupation occurred at the site as early as the Middle Horizon with historic occupation occurring until the Sutter Period. Ethnographic and historic data suggests that this site was once the tribelet center for the Consomne Plains Miwok. Historic records indicate that the site was attacked by the Spanish in 1820 with conflicts occurring with the Mexicans in 1826. Ethnohistoric records indicate that the Consomne eventually banded together in defense with other Plains Miwok groups, such as the Ylamne and Sisumne, who collectively led a series of uprisings against pioneer John Sutter in the 1840s. Eventually the Consomne abandoned the village site at CA-SAC-006 in 1844 to relocate to Sutter's New Helvetia (Sutter's Fort).

Sometime during the 1920s and 1930s, 10 unassociated funerary objects were removed from CA-SAC-021 (also known as Hollister, Allister, or S-29), located immediately adjacent to Snodgrass Slough, approximately 1.3 miles southeast of the intersection of Snodgrass Slough and the Sacramento River, in southwest Sacramento County, CA. The unassociated funerary objects were in the possession of Anthony Zallio, a private collector, who posthumously donated his collection in 1951 to the Department of Anthropology at Sacramento State College, CA (now California State University, Sacramento). The 10 unassociated funerary objects are four stone drills, one bone awl, three Haliotis shell ornaments, and two bone harpoons.

Archeological evidence suggests occupation at the site occurred during the Middle Horizon through Phase 1 of the Late Horizon. The site location places CA-SAC-021 in the aboriginal territory of the Plains Miwok.

Sometime during the 1920s and 1930s, one unassociated funerary object was removed from CA-SAC-056 (also known as Mosher, Mosler, Hathaway No. 1, and S-56), located on the east bank of the Sacramento River near Stone Lake, approximately thirteen miles south of the confluence of the American and Sacramento Rivers, in southwest Sacramento County, CA. The unassociated funerary objects were in the possession of Anthony Zallio, a private collector, who posthumously donated his collection in 1951 to the Department of Anthropology at Sacramento State College, CA (now California State University, Sacramento). The one unassociated funerary object is a small charred Olivella bead.

Archeological evidence suggests occupation at the village occurred as early as Phase 1 of the Late Horizon. Archeological and ethnographic records indicate that the site may be Walak, a tribelet center for the Gualacomne Plains Miwok. The site was occupied historically between the Mission Period and early Sutter Period from 1769-1845. Mission records indicate that 67 individuals were baptized from this site, and historical records note Walak as the first Native American village visited by pioneer John Sutter.

Sometime during the 1920s and 1930s, two unassociated funerary objects were removed from CA-SAC-066 (also known as Morse Mound). The two unassociated funerary objects may represent bone hair pins or pendants. The unassociated funerary objects were in the possession of Anthony Zallio, a private collector, who posthumously donated his collection in 1951 to the Department of Anthropology at Sacramento State College, CA (now California State University, Sacramento). CA-SAC-066 is located within the aboriginal territory of the Plains Miwok.

Sometime during the 1920s and 1930s, 51 unassociated funerary objects were removed from CA-SAC-072 or CA-SAC-073 (also known as Herzog, Van Lobensels, or Vorden), located on the west bank of Snodgrass Slough in southwest Sacramento County, CA. The unassociated funerary objects were in the possession of Anthony Zallio, a private collector, who posthumously donated his collection in 1951 to the Department of Anthropology at Sacramento State College, CA (now California State University, Sacramento). The 51 unassociated funerary objects are seven Haliotis shell ornaments, five charmstones, 17 whistles, six awls, two bone tubes, one modified antler, four modified bones, four possible bird bone whistle fragments, one biface, one pestle, and three lots of Olivella shell beads.

Archeological data suggests occupation occurring at CA-SAC-072 during Phase 2 of the Late Horizon, and occupation at CA-SAC-73 occurring sometime during the Middle Horizon. The site locations place CA-SAC-072 and CA-SAC-73 within the aboriginal territory of the Plains Miwok Indians.

Sometime during the 1920s and 1930s, four unassociated funerary objects were removed from CA-SAC-109 (also known as Drescher, C-109), located 3.5 miles southeast of Elk Grove in central Sacramento County, CA. The unassociated funerary objects were in the possession of Anthony Zallio, a private collector, who posthumously donated his collection in 1951 to the Department of Anthropology at Sacramento State College, CA (now California State University, Sacramento). The four unassociated funerary objects are slate projectile points.

Archeological evidence indicates that occupation occurred at the site from the Middle to Late Horizon. The site location places CA-SAC-109 within the aboriginal territory of the Plains Miwok Indians.

Sometime during the 1920s and 1930s, one unassociated funerary object was removed from CA-SAC-113 (also known as Calhoun #1, Calquehoun, or C-113), located on private property on the west bank of the Cosumnes River, east of Elk Grove in Sacramento County, CA. The unassociated funerary object was in the possession of Anthony Zallio, a private collector, who posthumously donated his collection in 1951 to the Department of Anthropology at Sacramento State College, CA (now California State University, Sacramento). The unassociated funerary object is one modified bone bead.

This site may represent Sukididi, a subsidiary settlement for the Shalachmushumne Plains Miwok. It is believed that the village was abandoned after the 1833 malaria epidemic. A known archeological historic component is not present at the site, and the association with Sukididi has not been verified. Archeological data from the site indicate that it was occupied during Phase 2 of the Late Horizon.

Sometime during the 1920s and 1930s, 54 unassociated funerary objects were removed from CA-YOL-045 (also known as Indian Head or Holy Ghost), located on the west bank of the Sacramento River, approximately 8.75 miles due south of the confluence of the American and Sacramento Rivers, in southeast Yolo County, CA. The unassociated funerary objects were in the possession of Anthony Zallio, a private collector, who posthumously donated his collection in 1951 to the Department of Anthropology at Sacramento State College, CA (now California State University, Sacramento). The 54 unassociated funerary objects are one sandstone abrader, one incised baked clay, one lot of charred textile ash, six bone awls, three lots of Olivella shell beads, three lots of clamshell beads, three obsidian bifaces, one charmstone, one whole clamshell, 11 Haliotis ornaments, one obsidian projectile point, one lot of charred seeds, 15 charred textile fragments, three modified bone tools, one incised bird bone tube, and two bird bone whistles.

CA-YOL-045 is located within the aboriginal territory of the Plains Miwok. Archeological data indicates occupation occurred during Phase 1 of the Late Horizon.

Sometime during the 1920s and 1930s, 11 unassociated funerary objects were removed from CA-YOL-053 (also known as the Frank King Mound), located on private property on the west bank of Elk Slough 2.5 miles southwest of Clarksburg in Yolo County, CA. The unassociated funerary objects were in the possession of Anthony Zallio, a private collector, who posthumously donated his collection in 1951 to the Department of Anthropology at Sacramento State College, CA (now California State University, Sacramento). The 11 unassociated funerary objects are one lot of clam shell beads, one biface, one lot of miscellaneous organic remains, one lot of small glass fragments, one Haliotis shell ornament, and six lots of charred textile fragments.

Ethnographic evidence indicates that CA-YOL-053 may have been the tribelet center for the Ylamne Plains Miwok. Earliest known occupation occurred from Phase 2 of the Early Horizon and lasted until the Late Mission Period from 1769 to 1839. The site is believed to have been abandoned after the 1833 malaria epidemic with survivors shifting residence to neighboring tribelets and Mission San Jose.

Sometime during the 1920s and 1930s, nine unassociated funerary objects were removed from CA-YOL-054 (also known as Farren Mound), located on the west bank of Elk Slough, approximately five miles southwest of Clarksburg, in southeast Yolo County, CA. The unassociated funerary objects were in the possession of Anthony Zallio, a private collector, who posthumously donated his collection in 1951 to the Department of Anthropology at Sacramento State College, CA (now California State University, Sacramento). The nine unassociated funerary objects are one lot clamshell beads, two lots of Olivella shell beads, and six lots of charred textile fragments.

CA-YOL-54 is believed to be associated with the Plains Miwok village of Siusumne. This association is based on CA-YOL-54 being the only site in the vicinity of Siusumne lacking a village name and being of significant size, which is typical of a tribelet center.

Archeological evidence indicates that the lower Sacramento Valley and Delta regions were continuously occupied since at least the Early Horizon (5550-550 B.C.). Cultural changes indicated by artifact typologies and burial patterns, historical linguistic evidence, and biological evidence reveal that the populations in the region were not static, with both in situ cultural changes and migrations of outside populations into the area. Linguistic evidence suggests that ancestral-Penutian speaking groups related to modern day Miwok, Nisenan, and Patwin groups occupied the region during the Middle (550 B.C.-A.D. 1100) and Late (A.D. 1100-Historic) Horizons, with some admixing between these groups and Hokan-speaking groups that occupied the region at an earlier date. The genetic data suggests that the Penutians may have arrived later than suggested by the linguistics.

Geographical data from ethnohistoric and ethnographic sources indicate that the site was most likely occupied by Plains Miwok-speaking groups at the beginning of the historic period, while Patwin-speakers occupied the valley west of the Sacramento River and Miwok-speakers resided south of the American River. Ethnographic data and expert testimony from Tribes support the high level of interaction between groups in the lower Sacramento Valley and Delta regions that crosscut linguistic boundaries. Historic population movements resulted in an increased level of shifting among populations, especially among the Miwok and Nisenan who were impacted by disease and Euro-American activities relating to Sutter's Fort and later gold-rush activities.

In summary, the ethnographic, historical, and geographical evidence indicates that the cultural items listed above are most closely affiliated with contemporary descendants of the Plains Miwok with more distant ties to neighboring groups, such as the Nisenan, Patwin, and Yokuts. The earlier cultural items from the Middle and Late Horizons share cultural relations with the Plains Miwok, Nisenan, Patwin, and Yokuts based on archeological, biological, and historical linguistic evidence.

Determinations Made by the California State University, Sacramento

Officials of California State University, Sacramento have determined that:

• Pursuant to 25 U.S.C. 3001(3)(B), the 163 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects to Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California, Wilton Rancheria, California; United Auburn Indian Community of the Auburn Rancheria of California; and two non-Federally recognized Native American groups: El Dorado Miwok Rancheria; and Nashville-Eldorado Miwok (if joined to the request of one or more of the foregoing Indian tribes).

Additional Requestors and Disposition

Lineal descendants or representatives of any Indian tribe or Native Hawaiian organization not identified in this notice that wish to claim these cultural items should submit a written request with information in support of the claim to Orn Bodvarsson, Dean of the College of Social Sciences and Interdisciplinary Studies, CSUS, 6000 J Street, Sacramento, CA 95819-6109, telephone (916) 278-4864, email obbodvarsson@csus.edu, by March 6, 2015. After that date, if no additional claimants have come forward, transfer of control of the unassociated funerary objects to Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California, Wilton Rancheria, California; United Auburn Indian Community of the Auburn Rancheria of California; and two non-Federally recognized Native American groups: El Dorado Miwok Rancheria; and Nashville-Eldorado Miwok (if joined to the request of one or more of the foregoing Indian tribes) may proceed.

California State University, Sacramento is responsible for notifying the Buena Vista Rancheria of Me-Wuk Indians of California; Cachil DeHe Band of Wintun Indians of the Colusa Indian Community of the Colusa Rancheria, California; California Valley Miwok Tribe, California; Chicken Ranch Rancheria of Me-Wuk Indians of California; Cortina Indian Rancheria of Wintun Indians of California; Ione Band of Miwok Indians of California; Jackson Rancheria of Me-Wuk Indians of California; Picayune Rancheria of Chukchansi Indians of California; Santa Rosa Indian Community of the Santa Rosa Rancheria, California; Shingle Springs Band of Miwok Indians, Shingle Springs Rancheria (Verona Tract), California; Susanville Indian Rancheria, California, Table Mountain Rancheria of California; Tule River Indian Tribe of the Tule River Reservation, California; Tuolumne Band of Me-Wuk Indians of the Tuolumne Rancheria of California; United Auburn Indian Community of the Auburn Rancheria of California; Wilton Rancheria, California; Wiyot Tribe, California (previously listed as the Table Bluff Reservation-Wiyot Tribe); and Yocha Dehe Wintun Nation, California (previously listed as the Rumsey Indian Rancheria of Wintun Indians of California) that this notice has been published. California State University, Sacramento will also notify El Dorado Miwok Rancheria; and Nashville-Eldorado Miwok, two non-federally recognized Native American groups.

Dated: December 29, 2014.
Melanie O'Brien,
Acting Manager, National NAGPRA Program.

[FR Doc. 2015-02182 Filed 2-3-15; 8:45 am]

BILLING CODE 4312-50-P